ENVIRONMENTAL PROTECTION AGENCY

[FRL-7884-2]

Science Advisory Board Staff Office Notification of Advisory Meeting of the Science Advisory Board

AGENCY: Environmental Protection Agency (EPA).

ACTION: Notice.

SUMMARY: The chartered Science Advisory Board (SAB) will hold a public teleconference meeting to finalize its draft advisory report to the Agency on the EPA FY 2006 science and research program budgets.

DATES: April 1, 2005. The SAB will meet on April 1, 2005, via teleconference from 1 p.m. to 3 p.m. (eastern standard time).

ADDRESSES: This public teleconference meeting will take place via teleconference only.

FOR FURTHER INFORMATION CONTACT: Any member of the public who wishes to obtain the teleconference call-in numbers and access codes, would like to submit written or brief oral comments (3 minutes or less), or who wants further information concerning this public teleconference meeting should contact Mr. Thomas Miller, Designated Federal Officer (DFO), EPA SAB, 1200 Pennsylvania Avenue, NW., (MC 1400F), Washington, DC 20460; via telephone/voice mail: (202) 343-9982; fax: (202) 233-0643; or e-mail at: miller.tom@epa.gov. General information concerning the SAB can be found on the EPA Web site at: http://www.epa.gov/sab.

SUPPLEMENTARY INFORMATION: Background: Pursuant to the Federal Advisory Committee Act, Pub. L. 92-463, the SAB Staff Office hereby gives notice of a public teleconference of the SAB SRB Advisory Panel. The Panel has conducted two public meetings to provide advice regarding EPA's overall science and research budget for Fiscal Year 2006. These public meetings were noticed in the Federal Register, 69 FR 65427 (November 12, 2004), and 70 FR. 4848 (January 31, 2005).

Purpose: The purpose of this public teleconference is to finalize the draft advisory report.

Availability of Meeting Materials: Copies of the agenda for the public teleconference described in this notice and the SAB draft advisory report will be posted on the SAB Web site at: http://www.epa.gov/sab/agendas.htm prior to the teleconference.

Providing Oral or Written Comments at SAB Meetings: It is the policy of the SAB Staff Office to accept written public comments of any length, and to accommodate oral public comments wherever possible. The SAB Staff Office expects the public statements presented at its meetings will not be repetitive of previously-submitted oral or written statements. Oral Comments: In general, each individual or group requesting an oral presentation at a public teleconference meeting will be limited to a total time of three minutes (unless otherwise indicated). Requests to provide oral comments must be in writing (e-mail, fax, or mail) and received by the DFO no later than noon eastern time five business days prior to the meeting in order to reserve time on the meeting agenda. Written Comments: Although the SAB Staff Office accepts written comments until the date of the meeting (unless otherwise stated), written comments should be received in the SAB Staff Office no later than noon eastern time five business days prior to the meeting so that the comments may be made available to the Panelists for their consideration. Comments should be supplied to the DFO (preferably by e-mail) at the address/contact information noted above in the following formats: one hard copy with original signature, and one electronic copy via e-mail (acceptable file format: Adobe Acrobat PDF, WordPerfect, Word, or Rich Text files (in IBM-PC/Windows 98/2000/XP format)).

Meeting Access: This is a meeting by teleconference. Individuals requiring special accommodation for this meeting should contact the DFO at least five business days prior to the meeting, so that appropriate arrangements can be made.

Dated: March 9, 2005.
Vanessa Vu,
Director, EPA Science Advisory Board Staff Office.

[FR Doc. 05-5043 Filed 3-14-05; 8:45 am]

BILLING CODE 6560-50-P